DEPARTMENT OF LABOR

Employment and Training Administration

[TA-W-56,258]

Collins And Aikman Products Company, Division 016, Roxboro, NC (Including Employees Working Out of Troy, MI); Notice of Revised Determination of Alternative Trade Adjustment Assistance on Reconsideration

On February 24, 2005, workers and former workers of Collins and Aikman Products Company, Division 016, Roxboro, North Carolina (subject firm) were certified eligible to apply for Trade Adjustment Assistance (TAA) but not Alternative Trade Adjustment Assistance (ATAA). The Notice of determination was published in the Federal Register on April 1, 2005 (70 FR 16847). An amendment was issued on June 6, 2006 to include employees working out of Troy, Michigan. The Notice of amendment was published in the Federal Register on June 22, 2006 (71 FR 35951).

Based on information produced on the initial investigation that workers the subject workers possess skills that are easily transferable, the workers were denied eligibility to apply for ATAA. Administrative reconsideration was not requested.

After the Notice of amendment was issued, the Department received new information indicating that the subject workers may possess skills that are not easily transferable. As such, the Department reopened the investigation.

Based on information obtain during the reconsideration investigation, the Department determines that the subject workers do not possess skills that are easily transferable.

At least five percent of the workforce at the subject from is at least fifty years of age. Competitive conditions within the industry are adverse.

Conclusion

After careful review of the additional facts obtained on reconsideration, I conclude that the requirements of Section 246 of the Trade Act of 1974, as amended, have been met for the workers of the subject firm. In accordance with the provisions of the Act, I make the following certification:

All workers of Collins and Aikman Products Company, Division 016, Roxboro, North Carolina, including employees working out of Troy, Michigan, who became totally or partially separated from employment on or after December 13, 2003 through February 24, 2007, are eligible to apply for adjustment assistance under section 223 of the Trade Act of 1974, and are also eligible to apply for alternative trade adjustment assistance under section 246 of the Trade Act of 1974.

Signed in Washington, DC, this 24th day of July, 2006.
Elliott S. Kushner,
Certifying Officer, Division of Trade Adjustment Assistance.

[FR Doc. E6-12198 Filed 7-28-06; 8:45 am]

BILLING CODE 4510-30-P